ENVIRONMENTAL PROTECTION AGENCY

[FRL-9715-01-R6]

Clean Air Act Operating Permit Program; Petitions for Objection to State Operating Permit for ExxonMobil Corp, Baytown Chemical Plant, Harris County, Texas

AGENCY: Environmental Protection Agency (EPA).

ACTION: Notice of final Order on Petition for objection to Clean Air Act title V operating permit.

SUMMARY: The Environmental Protection Agency (EPA) Administrator signed an Order dated March 18, 2022, granting in part and denying in part a Petition dated September 30, 2020 from the Environmental Integrity Project, Sierra Club, and Texas Campaign for the Environment. The Petition requested that the EPA object to a Clean Air Act (CAA) title V operating permit issued by the Texas Commission on Environmental Quality (TCEQ) to ExxonMobil Corp. for its Baytown Chemical Plant located in Harris County, Texas.

ADDRESSES: The EPA requests that you contact the individual listed in the FOR FURTHER INFORMATION CONTACT section to view copies of the final Order, the Petition, and other supporting information. Out of an abundance of caution for members of the public and our staff, the EPA Region 6 office is currently closed to the public to reduce the risk of transmitting COVID-19. Please call or email the contact listed below if you need alternative access to the final Order and Petition, which are available electronically at: https://www.epa.gov/title-v-operating-permits/title-v-petition-database.

FOR FURTHER INFORMATION CONTACT: Aimee Wilson, EPA Region 6 Office, Air Permits Section, (214) 665-7596, wilson.aimee@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received the Petition from the Environmental Integrity Project, Sierra Club, and Texas Campaign for the Environment dated September 30, 2020, requesting that the EPA object to the issuance of operating permit no. O2269, issued by TCEQ to the Baytown Chemical Plant in Harris County, Texas. The Petition claims the TCEQ Executive Director failed to adjust ExxonMobil's Plantwide Applicability Limits (PAL) for NOx and VOC downward to account for Harris County's recent designation as a serious Ozone nonattainment area and the revised proposed permit improperly incorporates a Major NSR permit by reference, fails to assure compliance with the PAL, fails to establish a compliance schedule for ExxonMobil to comply with its commitment to obtain a SIP-approved Chapter 116, Subchapter B permit for units and emissions authorized by state-only flexible permit No. 20211/PAL16, improperly incorporates confidential permit terms, and fails to specify monitoring, testing, and recordkeeping requirements sufficient to assure compliance with applicable requirements for projects authorized by permits by rule (PBR).

On March 18, 2022, the EPA Administrator issued an Order granting in part and denying in part the Petition. The Order explains the basis for EPA's decision.

Dated: April 4, 2022.
David Garcia,
Director, Air and Radiation Division, Region 6.

[FR Doc. 2022-07823 Filed 4-12-22; 8:45 am]

BILLING CODE 6560-50-P